FEDERAL TRADE COMMISSION

[File No. R611004]

Energy Labeling Rule; Correction

AGENCY: Federal Trade Commission.

ACTION: Final rule; correction.

SUMMARY: The Federal Trade Commission (“Commission”) published a document in the Federal Register of October 12, 2022, concerning the Energy Labeling Rule. Soon after publication, Commission staff learned that the document contained an incorrect number. The Commission is issuing this correction to reflect the corrected number.

FOR FURTHER INFORMATION CONTACT: Hampton Newsome (202-326-2889), Attorney, Division of Enforcement, Bureau of Consumer Protection, Federal Trade Commission, Room CC-9528, 600 Pennsylvania Avenue NW, Washington, DC 20580.

SUPPLEMENTARY INFORMATION: The final rule document submitted by Commission staff for publication contained a typographical error; specifically, a decimal point was omitted from the price-per-gallon figure for liquid propane in the table for revised appendix K1.

Correction

In final rule FR Doc. 2022-22036 appearing at 87 FR 61465 in the Federal Register of Wednesday, October 12, 2022, make the following correction. On page 61477, in the table in appendix K1, in the second column of the entry for “Propane”, “$223/gallon ⁸” is corrected to read “$2.23/gallon ⁸”.

Dated: November 16, 2022.
April J. Tabor,
Secretary.

[FR Doc. 2022-25307 Filed 11-18-22; 8:45 am]

BILLING CODE 6750-01-P